DEPARTMENT OF HOMELAND SECURITY

Office of Bombing Prevention Training and Conference Forms

AGENCY: Infrastructure Security Division (ISD), Cybersecurity and Infrastructure Security Agency (CISA), Department of Homeland Security (DHS).

ACTION: 30-Day notice and request for comments; revision, 1670-0031.

SUMMARY: DHS CISA ISD will submit the following information collection request (ICR) to the Office of Management and Budget (OMB) for review and clearance in accordance with the Paperwork Reduction Act of 1995. CISA previously published this ICR for a 60-day public comment period. No comments were received by CISA. The purpose of this notice is to allow an additional 30 days for public comments.

DATES: Comments are due by December 4, 2019.

ADDRESSES: Interested persons are invited to submit written comments on the proposed information collection to the Office of Information and Regulatory Affairs, OMB. Comments should be addressed to the OMB Desk Officer, Department of Homeland Security and sent via electronic mail to dhsdeskofficer@omb.eop.gov. All submissions must include the words “Department of Homeland Security” and the OMB Control Number 1670-0031.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Doug DeLancey, 703-235-8207, dhsobptaskings@HQ.DHS.GOV.

SUPPLEMENTARY INFORMATION: Under the Homeland Security Presidential Directive-19, DHS was mandated to develop strategies and recommendations on how to deter, prevent, detect, protect against, and respond to IED explosive attacks. DHS thus educates private sector security providers about IED threats, including tactics, techniques, and procedures relevant to their usage, so private sector security providers are knowledgeable about terrorist use of explosives and contribute to a layered security approach.

The Presidential Policy Directive-17 provides guidance to update and gives momentum to our ability to counter threats involving improvised explosive devices. DHS was mandated to deliver standardized IED awareness and familiarization training for federal, state and local responders and public safety personnel. The DHS CISA ISD Office for Bombing Prevention (OBP) must collect various information to effectively deliver this training. Additionally, OBP collects data to provide updated and awareness product information following conferences and other outreach events. OBP describes these collections below.

The purpose of the Volunteer Participant Release of Liability Agreement is to collect necessary information in case an individual who acts as a volunteer role player in support of official OBP training sustains an injury or death during the performance of their supporting role. If legal action is taken, this information can serve as a hold harmless statement/agreement by the Government. In the unlikely event that an injury or death is sustained in the performance of support for training, this information will be used by OBP to protect against legal action by the volunteer or their family. If legal action is taken, this information can serve as a “hold harmless” statement/agreement by the Government.

The purpose of the Gratuitous Services Agreement is to establish that no monies, favors or other compensation will be given or received by either party involved in volunteer training. The information from the Gratuitous Services Agreement will be used by OBP in the event that questions arise regarding remuneration or payment for volunteer participation in training events.

The purpose of the OBP Interest Sign-up sheet is to collect an individual's contact information at the training events and conferences. This information is used by OBP in order to follow-up with an individual's questions and to provide the individual with updated or new awareness product information at the conclusion of conference season as well as establish an OBP point of contact for them.

The changes to the collection since the previous OMB approval include: Updating the collection name to better reflect instruments in the collection, adding the collecting of contact information, an increase in burden estimates and costs.

The addition of the Interest Sign-up Sheet has increased the annual burden estimate by 8 hours, which corresponds to an annual cost of $319. It has also increased the annual government burden estimate by 2 hours at an annual cost of $247.

The annual burden cost for the existing collections (i.e., the Volunteer Participant Release of Liability Agreement and the Gratuitous Services Agreement) has increased by $2,204, from $3,894 to $6,098, due to updated hourly compensation rates.

The annual government cost for the existing collections (i.e., the Volunteer Participant Release of Liability Agreement and the Gratuitous Services Agreement) has increased by $11,695, from $6,831 to $18,526, due to updated hourly compensation rates.

This is a revision and renewal of an information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Office of Bombing Prevention Training and Conference Forms.

OMB Control Number: 1670-0031.

Frequency: Annually.

Affected Public: State, Local, Tribal, and Territorial Governments and Private Sector Individuals.

Number of Annualized Respondents: 1,250.

Estimated Time per Respondent: 0.10 hours, 0.02 hours.

Total Annualized Burden Hours: 158 hours.

Total Annualized Respondent Opportunity Cost: $6,416.

Total Annualized Respondent Out-of-Pocket Cost: $0.

Total Annualized Government Cost: $18,773.

Scott Libby,
Deputy Chief Information Officer.

[FR Doc. 2019-24048 Filed 11-1-19; 8:45 am]

BILLING CODE 9110-9P-P